OFFICE OF PERSONNEL MANAGEMENT

Excepted Service; January 2023

AGENCY: Office of Personnel Management.

ACTION: Notice.

SUMMARY: This notice identifies Schedule A, B, and C appointing authorities applicable to a single agency that were established or revoked from January 1, 2023 to January 31, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during January 2023.

Schedule B

No Schedule B Authorities to report during January 2023.

Schedule C

The following Schedule C appointing authorities were approved during January 2023.

Agency name | Organization name | Position title | Authorization No. | Effective date
DEPARTMENT OF AGRICULTURE | Office of the Secretary | Special Assistant Senior Advisor (2) | DA230035 DA230038 DA230046 | 01/06/2023 01/13/2023 01/27/2023
| Farm Service Agency | Senior Policy Advisor | DA230039 | 01/13/2023
|  | Special Assistant | DA230040 | 01/16/2023
| Office of Communications | Press Assistant | DA230036 | 01/06/2023
| Office of the Assistant Secretary for Civil Rights | Confidential Assistant | DA230048 | 01/29/2023
| Office of the Assistant Secretary for Congressional Relations | Legislative Advisor | DA230047 | 01/29/2023
| Office of the Under Secretary for Food, Nutrition and Consumer Services | Senior Advisor | DA230045 | 01/29/2023
| Rural Business Service | Special Assistant | DA230041 | 01/20/2023
| Rural Utilities Service | Special Assistant | DA230042 | 01/16/2023
|  | Chief of Staff | DA230043 | 01/29/2023
DEPARTMENT OF COMMERCE | Office of International Trade Administration | Senior Policy Advisor | DC230045 | 01/12/2023
| Minority Business Development Agency | Senior Advisor | DC230061 | 01/27/2023
| National Institute of Standards and Technology | Senior Advisor for Opportunity and Inclusion | DC230048 | 01/12/2023
| National Oceanic and Atmospheric Administration | Special Advisor | DC230060 | 01/27/2023
| Office of Advance, Scheduling and Protocol | Scheduler | DC230056 | 01/27/2023
| Office of Executive Secretariat | Confidential Assistant | DC230057 | 01/27/2023
| Office of the General Counsel | Senior Counsel | DC230047 | 01/12/2023
COUNCIL ON ENVIRONMENTAL QUALITY | Council on Environmental Quality | Special Assistant for Environmental Justice | EQ230002 | 01/24/2023
DEPARTMENT OF DEFENSE | Office of the Secretary of Defense | Special Assistant to the Secretary of Defense (Strategy) | DD230042 | 01/12/2023
|  | Protocol Officer | DD230039 | 01/13/2023
| Office of the Assistant Secretary of Defense (Legislative Affairs) | Special Assistant | DD230106 | 01/26/2023
DEPARTMENT OF THE ARMY | Office Assistant Secretary Army (Financial Management and Comptroller) | Special Assistant to the Assistant Secretary of the Army (Financial Management and Comptroller) | DW230006 | 01/23/2023
DEPARTMENT OF EDUCATION | Office of the Secretary | Deputy Director, White House Initiative on Advancing Educational Equity, Excellence, and Economic Operation | DB230026 | 01/04/2023
|  | Executive Assistant/Executive Office Manager | DB230042 | 01/20/2023
DEPARTMENT OF ENERGY | Office of the Assistant Secretary for Congressional and Intergovernmental Affairs | Advisor, Congressional Affairs Regional Intergovernmental and External Affairs Specialist | DE230040 DE230034 | 01/18/2023 01/19/2023
|  | Regional Intergovernmental and External Affairs Specialist—Appalachia (2) | DE230042 DE230043 DE230048 | 01/27/2023 01/27/2023 01/27/2023
| Office of the Assistant Secretary for Nuclear Energy | Special Assistant | DE230031 | 01/12/2023
| Office of Management | Special Assistant | DE230032 | 01/04/2023
| Office of Public Affairs | Editor-Writer (Deputy Speechwriter) | DE230047 | 01/27/2023
ENVIRONMENTAL PROTECTION AGENCY | Office of the Administrator | Senior Advisor for the Greenhouse Gas Reduction Fund | EP230022 | 01/19/2023
GENERAL SERVICES ADMINISTRATION | National Capital Region | Special Assistant to the Regional Administrator | GS230012 | 01/04/2023
| Office of General Counsel | Chief of Staff | GS230024 | 01/19/2023
| Office of Congressional and Intergovernmental Affairs | Deputy Associate Administrator for Policy | GS230025 | 01/19/2023
DEPARTMENT OF HEALTH AND HUMAN SERVICES | Office of Administration for Children and Families | Special Advisor (2) | DH230134 DH230134 | 01/27/2023 01/27/2023
| Centers for Medicare and Medicaid Services | Senior Advisor and Press Secretary | DH230132 | 01/27/2023
| Office of Health Resources and Services Administration | Senior Advisor Chief of Staff | DH230055 DH230136 | 01/13/2023 01/27/2023
| National Cancer Institute | Assistant Director, Cancer Moonshot Engagement | DH230056 | 01/12/2023
| Office for Civil Rights | Special Advisor | DH230057 | 01/13/2023
| Office of Intergovernmental and External Affairs | Regional Director, Chicago, Illinois-Region V | DH230135 | 01/27/2023
| Office of the Assistant Secretary for Public Affairs | Assistant Speechwriter Senior Advisor | DH230061 DH230131 | 01/12/2023 01/24/2023
| Office of the Secretary | Special Assistant (2) | DH230060 DH230062 | 01/12/2023 01/12/2023
|  | Policy Advisor | DH230063 | 01/12/2023
|  | Special Assistant for Scheduling and Advance | DH230129 | 01/20/2023
|  | Scheduler | DH230130 | 01/20/2023
DEPARTMENT OF HOMELAND SECURITY | Office of Public Affairs Office of the Secretary | Press Secretary for Oversight Senior Advance Officer | DM230033 DM230054 | 01/05/2023 01/23/2023
| Federal Emergency Management Agency | Director of Legislative Affairs | DM230075 | 01/25/2023
DEPARTMENT OF HOUSING AND URBAN DEVELOPMENT | Office of Congressional and Intergovernmental Relations | Senior Advisor | DU230016 | 01/11/2023
| Office of Community Planning and Development | Special Assistant | DU230030 | 01/20/2023
| Office of the Secretary | Special Assistant and Policy Coordinator | DU230033 | 01/27/2023
|  | White House Liaison | DU230034 | 01/27/2023
DEPARTMENT OF THE INTERIOR | Bureau of Land Management | Advisor | DI230048 | 01/25/2023
DEPARTMENT OF JUSTICE | Office of Civil Division | Senior Counsel | DJ230037 | 01/06/2023
| Office of Public Affairs | Press Secretary | DJ230043 | 01/09/2023
| Office of Deputy Assistant Attorney General I | Counsel | DJ230041 | 01/10/2023
| Department of Justice | Confidential Assistant | DJ230026 | 01/27/2023
DEPARTMENT OF LABOR | Office of Mine Safety and Health Administration | Senior Policy Advisor | DL230019 | 01/20/2023
| Office of Occupational Safety and Health Administration | Special Assistant | DL230017 | 01/12/2023
| Office of Congressional and Intergovernmental Affairs | Oversight Counsel | DL230018 | 01/31/2023
| Office of the Assistant Secretary for Policy | Policy Advisor | DL230014 | 01/19/2023
NATIONAL AERONAUTICS AND SPACE ADMINISTRATION | Office of Communications | Communications Manager Press Secretary and Advisor | NN230015 NN230013 | 01/11/2023 01/13/2023
|  | Senior Advisor for Strategic Communications and Guest Operations | NN230014 | 01/13/2023
|  | Digital Content Strategist | NN230017 | 01/18/2023
| Office of Legislative and Intergovernmental Affairs | Legislative Assistant and Strategic Outreach Advisor | NN230016 | 01/11/2023
| Office of the Administrator | Special Assistant to the Chief of Staff | NN230018 | 01/18/2023
|  | Administrative Director and Advisor | NN230019 | 01/31/2023
NATIONAL ENDOWMENT FOR THE ARTS | National Endowment for the Arts | Senior Advisor and Envoy for Cultural Exchange | NA230002 | 01/18/2023
OFFICE OF PERSONNEL MANAGEMENT | Office of the Director | Confidential Assistant | PM230021 | 01/12/2023
OFFICE OF THE UNITED STATES TRADE REPRESENTATIVE | Office of the Ambassador | Congressional Affairs Specialist | TN230008 | 01/20/2023
UNITED STATES INTERNATIONAL DEVELOPMENT FINANCE CORPORATION | Overseas Private Investment Corporation | Special Assistant Policy Assistant | PQ230002 PQ230005 | 01/10/2023 01/10/2023
SECURITIES AND EXCHANGE COMMISSION | Office of the Chairman | Senior Advisor | SE230003 | 01/27/2023
DEPARTMENT OF STATE | Bureau of Legislative Affairs | Deputy Assistant Secretary (House) | DS230076 | 01/19/2023
| Bureau of Global Public Affairs | Senior Advisor | DS230078 | 01/27/2023
DEPARTMENT OF TRANSPORTATION | Office of Public Affairs | Senior Speechwriter (2) | DT230020 DT230021 | 01/25/2023 01/25/2023
DEPARTMENT OF THE TREASURY |  | Senior Spokesperson | DY230046 | 01/13/2023
| Office of the Assistant Secretary (Public Affairs) | Senior Digital Strategy Specialist | DY230049 | 01/27/2023
| Secretary of the Treasury | Special Assistant | DY230047 | 01/26/2023
|  | Deputy Director for Scheduling and Advance | DY230050 | 01/27/2023
| Office of the Under Secretary for Domestic Finance | Policy Advisor | DY230051 | 01/27/2023
UNITED STATES ELECTION ASSISTANCE COMMISSION | United States Election Assistance Commission | Confidential Assistant | EA230002 | 01/05/2023

The following Schedule C appointing authorities were revoked during January 2023.

Agency name | Organization name | Position title | Request No. | Vacate date
CONSUMER FINANCIAL PROTECTION BUREAU | Office of the Director | Senior Advisor to the Director | FP220004 | 01/14/2023
DEPARTMENT OF AGRICULTURE | Office of the Under Secretary for Rural Development | Confidential Assistant | DA220157 | 01/28/2023
DEPARTMENT OF COMMERCE | Office of Advance, Scheduling and Protocol | Scheduler | DC220130 | 01/28/2023
| Office of Business Liaison | Deputy Director, Office of Public Engagement | DC220116 | 01/12/2023
| Office of the Assistant Secretary for Economic Development | Special Assistant | DC220066 | 01/28/2023
DEPARTMENT OF EDUCATION | Office of Planning, Evaluation and Policy Development | Special Assistant Confidential Assistant | DB210047 DB220016 | 01/14/2023 01/28/2023
DEPARTMENT OF HEALTH AND HUMAN SERVICES | Office of the Assistant Secretary for Public Affairs | Special Assistant | DH220007 | 01/14/2023
DEPARTMENT OF HOUSING AND URBAN DEVELOPMENT | Office of Community Planning and Development | Senior Advisor | DU220004 | 01/14/2023
| Office of the Secretary | White House Liaison | DU210020 | 01/28/2023
|  | Deputy White House Liaison | DU220053 | 01/28/2023
DEPARTMENT OF LABOR | Veterans Employment and Training Service | Special Assistant | DL210125 | 01/14/2023
DEPARTMENT OF STATE | Bureau of Legislative Affairs | Staff Assistant | DS210276 | 01/28/2023
| Office of the Under Secretary for Public Diplomacy and Public Affairs | Senior Advisor | DS220002 | 01/29/2023
DEPARTMENT OF THE INTERIOR | Secretary's Immediate Office | Special Assistant to the Secretary's Chief of Staff | DI210097 | 01/14/2023
ENVIRONMENTAL PROTECTION AGENCY | Office of the Associate Administrator for Congressional and Intergovernmental Relations | Deputy Associate Administrator for Congressional Affairs (House Relations) | EP210099 | 01/14/2023
EQUAL EMPLOYMENT OPPORTUNITY COMMISSION | Office of the Chair | Executive Staff Assistant | EE210011 | 01/05/2023
NATIONAL AERONAUTICS AND SPACE ADMINISTRATION | Office of Communications | Press Secretary Special Assistant | NN210042 NN210066 | 01/14/2023 01/14/2023
|  | Senior Advisor for Strategic Communications | NN210073 | 01/14/2023
OFFICE OF PERSONNEL MANAGEMENT | Human Resource Solutions Office of the General Counsel | Chief of Staff Senior Counsel for Oversight | PM220008 PM230002 | 01/14/2023 01/14/2023
OFFICE OF THE SECRETARY OF DEFENSE | Office of the Secretary of Defense Office of the Under Secretary of Defense (Research and Engineering) | Protocol Officer Special Assistant | DD210267 DD210245 | 01/14/2023 01/28/2023
| Office of General Counsel | General Counsel | SE220002 | 01/31/2023
SECURITIES AND EXCHANGE COMMISSION | Office of Public Affairs | Writer-Editor | SE220007 | 01/26/2023
TRADE AND DEVELOPMENT AGENCY | Office of the Director | Director of Public Engagement | TD210003 | 01/20/2023

Authority: 5 U.S.C. 3301 and 3302; E.O. 10577, 3 CFR, 1954-1958 Comp., p. 218.

Office of Personnel Management.
Kayyonne Marston,
Federal Register Liaison.

[FR Doc. 2023-13634 Filed 6-26-23; 8:45 am]

BILLING CODE 6325-38-P